FEDERAL COMMUNICATIONS COMMISSION

Notice of Public Information Collection(s) Being Reviewed by the Federal Communications Commission

May 22, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 4, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov.

FOR FURTHER INFORMATION CONTACT: For additional information or copies of the information collection(s) contact Les Smith at 202-418-0217 or via the Internet at Leslie.Smith@fcc.gov.

SUPPLEMENTARY INFORMATION: OMB Control Number: 3060-0095.

Title: Annual Employment Report.

Form Number: FCC Form 395-A.

Type of Review: Revision of a currently approved collection.

Respondents: Business and other for-profit, not-for-profit institutions.

Number of Respondents: 2,200.

Estimated Time per Response: 10 mins to 2.5 hrs.

Frequency of Response: Recordkeeping; Annual reporting requirement.

Total Annual Burden: 3,188 hours.

Total Annual Costs: None.

Needs and Uses: Following the D.C. Circuit's decision in MD/DC/DE Broadcasters Association v. FCC (“Association”) in January 2001, vacating the FCC's broadcast EEO rules for recruitment, on January 31, 2001, the Commission suspended its EEO program requirements for both broadcasters and Multichannel Video Programming Distributors (MVPD's), including the requirement to file FCC Forms 395-A. and 395-M. The FCC is now revising Form 395-A, Annual Employment Report, to incorporate FCC Form 395-M. The new FCC Form 395-A is a data collection device used to report industry trends. The report identifies employees by gender, race, and ethnicity in fifteen job categories. The FCC Form 395-A contains a grid which collects data on full and part-time employees and requests a list of employees by job title, indicating the job category and full or part-time status of the position. However, Form 395-A omits the old EEO program report section, which is now in the new FCC Form 396-C, OMB Control No. 3060-1033.

OMB Control Number: 3060-0390.

Title: Broadcast Station Annual Employment Report, FCC Form 395-B.

Form Number: FCC Form 395-B.

Type of Review: Extension of currently approved collection.

Respondents: Business or other for-profit entities; State, Local or Tribal Government.

Number of Respondents: 14,000.

Estimated Time Per Response: 0.88 hours.

Frequency of Response: Annual reporting requirement.

Total Annual Burden: 12,320 hours.

Total Annual Costs: None.

Needs and Uses: FCC Form 395-B is used to compile statistics on the workforce employed by broadcast licensees/permitees. It is filed by all AM, FM, TV, international and low power TV broadcast licensees/permittees that employ five or more full-time employees. The FCC staff use the data to compile a report showing the five-year employment trends the broadcast industry.

OMB Control Number: 3060-0568.

Title: Commercial Leased Access Rates, Terms and Conditions.

Form Number: N/A.

Type of Review: Extension of a currently approved collection.

Respondents: Business and other for-profit entities.

Number of Respondents: 6,330.

Estimated Time per Response: 2 mins to 10 hrs.

Frequency of Response: Recordkeeping; Third party disclosure.

Total Annual Burden: 94,171 hours.

Total Annual Costs: $74,000.

Needs and Uses: The FCC and prospective leased access programmers use this information to verify rate calculations for leased access channels and to eliminate uncertainty in negotiations for leased commercial access. The Commission's leased access requirements are designed to promote programming diversity and competition in programming delivery as required by Section 612 of the Cable Television Consumer Protection and Competition Act of 1992.

OMB Control Number: 3060-0938.

Title: Application for a Low Power FM Broadcast Station License.

Form Number: FCC Form 319.

Type of Review: Extension of currently approved collection.

Respondents: Not-for-profit institutions; State, local or Tribal Government.

Number of Respondents: 1,200.

Estimated Time per Response: 1.5 hours.

Frequency of Response: On occasion reporting requirements.

Total Annual Burden: 1,800 hours.

Total Annual Costs: $105,000.

Needs and Uses: The FCC Form 319 is required to apply for a new or modified low power FM broadcast station. The data are used by FCC staff to determine whether an applicant has constructed its station in accordance with the outstanding construction permit and to update FCC station files. Data are extracted from the FCC Form 319 for inclusion in the subsequent license to operate the station.

Federal Communications Commission.
Marlene H. Dortch,
Secretary.

[FR Doc. 03-14094 Filed 6-4-03; 8:45 am]

BILLING CODE 6712-01-P